DEPARTMENT OF THE INTERIOR

Bureau of Reclamation

[RR04310000, 16XR0680A1, RX002361010021000]

Notice of Availability and Notice of Public Hearings for the Draft Environmental Impact Statement for the Continued Implementation of the 2008 Operating Agreement for the Rio Grande Project, New Mexico and Texas

AGENCY: Bureau of Reclamation, Interior.

ACTION: Notice.

SUMMARY: The Bureau of Reclamation has made available for public review and comment the Draft Environmental Impact Statement (EIS) on continuing to implement the 2008 Operating Agreement for the Rio Grande Project(Operating Agreement), and to implement long-term contracts for storage of San Juan-Chama Project water in Elephant Butte Reservoir. The Operating Agreement is a description of how Reclamation allocates, releases from storage, and delivers Rio Grande Project water to Mexico, the Elephant Butte Irrigation District in New Mexico, and the El Paso County Water Improvement District No. 1 in Texas.

DATES: Written comments on the Draft EIS should be submitted on or before Monday, May 9, 2016.

Public hearings to receive oral or written comments will be held on:

• Thursday, April 7, 2016, from 4 to 7 p.m., Albuquerque, New Mexico; and

• Tuesday, April 12, 2016, from 6 to 9 p.m., Las Cruces, New Mexico.

A court recorder will be available to take comments from the public before a hearing officer during this time.

ADDRESSES: Send written comments to Ms. Rhea Graham, Bureau of Reclamation, Albuquerque Area Office, ALB-103, 555 Broadway Boulevard NE., Suite 100, Albuquerque, New Mexico 87102; or via email to rgraham@usbr.gov.

Public hearings will be held in the following locations:

• Albuquerque—Albuquerque Area Office, 555 Broadway Boulevard NE., Suite 100, Albuquerque, New Mexico.

• Las Cruces—Elephant Butte Irrigation District, 530 South Melendres Street, Las Cruces, New Mexico.

To request a compact disc of the Draft EIS, please contact Ms. Rhea Graham as indicated above, or call (505) 462-3560.

The Draft EIS may be viewed at the Bureau of Reclamation's Web site at http://www.usbr.gov/uc/envdocs/eis.html. For those without Internet access, copies of the EIS are available for public inspection at specified government and quasi-state offices.

See the SUPPLEMENTARY INFORMATION section for specific locations where the Draft EIS is available for public review and inspection.

FOR FURTHER INFORMATION CONTACT: Ms. Rhea Graham, EIS Project Manager, Bureau of Reclamation, via email at rgraham@usbr.gov, or at (505) 462-3560.

SUPPLEMENTARY INFORMATION: This Draft EIS examines whether to continue to implement the Operating Agreement provisions consisting of a diversion ratio adjustment provision and a carryover accounting provision when allocating, releasing from storage, and delivering Rio Grande Project water; as well as whether to store San Juan-Chama Project water in Elephant Butte Reservoir. The area of analysis for the Draft EIS extends from the San Marcial Railroad Bridge above Elephant Butte Reservoir in New Mexico to the El Paso/Hudspeth County Line in Texas; the diversion headings where Reclamation delivers Rio Grande Project allocations are located between Caballo Dam and International Dam.

Reclamation allocates Rio Grande Project water supplies such that the diversion allocations to Elephant Butte Irrigation District (EBID) and El Paso County Water Improvement District No. 1 (EPCWID) are proportionate to each district's respective acreages. After annual calculation of Rio Grande Project allocations, Reclamation delivers water to each district's diversion headings, and delivers to the International Boundary and Water Commission, in compliance with the Convention of 1906 with Mexico.

The proposed Federal action analyzed in this Draft EIS is to continue to implement the Operating Agreement, which fulfills obligations in Reclamation contracts with the EBID and EPCWID, as well as resolves litigation in compliance with the legal settlement State of New Mexico ex rel. Office of the State Engineer v. Elephant Butte Irrigation District, et al.

The Operating Agreement is a description of how Reclamation allocates, releases from storage, and delivers Rio Grande Project water. The provisions adopted in the Operating Agreement reflect the interest of Reclamation, EBID, and EPCWID in the long-term sustainability of the Rio Grande Project.

The Draft EIS Analyzes Five Alternatives

The Draft EIS describes a No-Action Alternative (Alternative 1) and examines four Action Alternatives (Alternatives 2, 3, 4, and 5). All five alternatives were simulated with an integrated surface water/groundwater model developed from historical hydrology to simulate potential future hydrology through the terms of the Operating Agreement, and the simulations show the effect of current climate change scenarios on future hydrology. Reclamation consulted on effects to biological resources under Section 7 of the Endangered Species Act, and the biological opinion issued by the U.S. Fish and Wildlife Service (Service) may be viewed on the Service's Web site at http://www.fws.gov/southwest/es/NewMexico/ES_bio_op.cfm.

Alternative 1: The No-Action Alternative

Under Alternative 1, Reclamation would continue implementation through 2050 of the operating procedures defined in the Operating Agreement. Under these operating procedures, both provisions (diversion ratio and carryover allocation) of the Operating Agreement would continue. The implementation of the diversion ratio adjustment provision of the Operating Agreement in computing annual diversion allocations would continue. The carryover accounting provisions of the Operating Agreement allowing carryover of the unused allotment balance from one year to the next would continue. Under Alternative 1, Reclamation would execute a multi-year contract through 2050 for the Albuquerque Bernalillo County Water Authority to store up to 50,000 acre-feet per year of San Juan-Chama Project water in Elephant Butte Reservoir every year, if reservoir space is available.

Alternative 2: No San Juan-Chama Project Storage

Alternative 2 would continue to implement the diversion ratio adjustment provision of the Operating Agreement in computing annual diversion allocations, and continue to implement the carryover accounting provisions of the Operating Agreement, which allow carryover of unused allotment balance from one year to the next. However, there would be no storage of San Juan-Chama Project water in Elephant Butte Reservoir. San Juan Chama-Project repayment contractors receive their annual water allocations with no provisions for carryover; therefore, contractors can benefit by storing unused annual allocations in Elephant Butte Reservoir for future use.

Alternative 3: No Carryover Provision

Alternative 3 would continue to implement the diversion ratio adjustment provision of the Operating Agreement in computing annual diversion allocations, but would eliminate the carryover allocations, and each district would relinquish the unused allotment balance at the end of each calendar year. Alternative 3 would continue to store up to 50,000 acre-feet per year of San Juan-Chama Project water in Elephant Butte Reservoir. Alternative 3 is the same as Alternative 1 (No-Action Alternative), except Reclamation would not continue to implement the carryover allocation accounting provisions of the Operating Agreement. Using the hydrology model simulations, the effects of the carryover provision of the Operating Agreement can be determined.

Alternative 4: No Diversion Ratio Adjustment

Alternative 4 would compute the annual diversion allocations based only on the regression equations in the Operating Agreement, but without adjusting for variations in Rio Grande Project performance from the effects of losses and inflows on deliveries. Alternative 4 would continue to implement the carryover accounting provisions of the Operating Agreement, allowing carryover of unused allotment balance from one year to the next. Alternative 4 would continue to store up to 50,000 acre-feet per year of San Juan-Chama Project water in Elephant Butte Reservoir. Alternative 4 is the same as Alternative 1 (No-Action Alternative), except Reclamation would not implement the diversion ratio adjustment provision of the Operating Agreement. Using the hydrology model simulations, the effects of the diversion ratio adjustment provision of the Operating Agreement can be determined.

Alternative 5: Prior Operating “Ad Hoc” Practices

Alternative 5 would compute the annual diversion allocations based only on regression equations that reflect historical conditions and Rio Grande Project performance, without adjusting for variations in Rio Grande Project performance; and also, would eliminate the carryover allocations and each district would relinquish the unused allotment balance at the end of each calendar year. Alternative 5 would continue to store up to 50,000 acre-feet per year of San Juan-Chama Project water in Elephant Butte Reservoir. Alternative 5 allows comparison through 2050 of operations under the Operating Agreement and a simulation of procedures prior to the Operating Agreement, by eliminating the carryover and diversion ratio adjustment provisions. Alternative 5 is the best possible representation of prior operating practices in a modeling context, but is not the same as historical operations. Alternative 5 would not continue implementation of the Operating Agreement.

Public Review and Where To Find Copies of the Draft EIS

Copies of the Draft EIS are available for public review and inspection at the following locations:

• Bureau of Reclamation, Albuquerque Area Office, 555 Broadway NE., Suite 100, Albuquerque, New Mexico 87102.

• Bureau of Reclamation, El Paso Field Division, 10737 Gateway West, Suite 350, El Paso, Texas 79935.

• Natural Resources Library, U.S. Department of the Interior, 1849 C Street NW., Main Interior Building, Washington, DC 20240-0001.

• Elephant Butte Irrigation District, 530 South Melendres Street, Las Cruces, New Mexico 88005.

• El Paso County Water Improvement District No. 1, Main Office, 13247 Alameda Avenue, Clint, Texas 79836.

• El Paso County Water Improvement District No. 1, Canutillo Office, 7254 La Junta Drive, Canutillo, Texas 79835.

Special Assistance for Public Hearings

If special assistance is required to participate in the public hearing, please contact Ms. Tina Villegas at (505) 462-3542, or via email at tvillegas@usbr.gov. Please contact Ms. Villegas at least 10 working days prior to the hearing. A telephone device for the hearing impaired (TTY) is available at 1-800-877-8339.

Public Disclosure

Before including your address, phone number, email address, or other personal identifying information in your comment, you should be aware that your entire comment—including your personal identifying information—may be made publicly available at any time. While you can ask us in your comment to withhold your personal identifying information from public review, we cannot guarantee that we will be able to do so.

Dated: February 17, 2016.
Brent Rhees,
Regional Director.

[FR Doc. 2016-05889 Filed 3-17-16; 8:45 am]

BILLING CODE 4332-90-P